DEPARTMENT OF COMMERCE

International Trade Administration

[A-570-932]

Certain Steel Threaded Rod from the People's Republic of China: Notice of Antidumping Duty Order

AGENCY: Import Administration, International Trade Administration, Department of Commerce.

SUMMARY: Based on affirmative final determinations by the Department of Commerce (“Department”) and the International Trade Commission (“ITC”), the Department is issuing an antidumping duty order on certain steel threaded rod (“STR”) from the People's Republic of China (“PRC”). On April 6, 2009, the ITC notified the Department of its affirmative determination of material injury to a U.S. industry. See Steel Threaded Rod from China (Investigation No. 731-TA-1145 (Final), USITC Publication 4070, April 2009).

EFFECTIVE DATE: April 14, 2009.

FOR FURTHER INFORMATION CONTACT: Bobby Wong or Toni Dach, AD/CVD Operations, Office 9, Import Administration, International Trade Administration, U.S. Department of Commerce, 14th Street and Constitution Avenue NW, Washington, DC 20230; telephone: (202) 482-0409, or (202) 482-1655, respectively.

SUPPLEMENTARY INFORMATION:

Background

In accordance with sections 735(d) and 777(i)(1) of the Tariff Act of 1930, as amended (“Act”), on February 27, 2009, the Department published its final determination of sales at less than fair value in the antidumping investigation of STR from the PRC. See Certain Steel Threaded Rod from the People's Republic of China: Final Determination of Sales at Less Than Fair Value, 74 FR 8907 (February 27, 2009).

Scope of the Order

The merchandise covered by this order is steel threaded rod. Steel threaded rod is certain threaded rod, bar, or studs, of carbon quality steel, having a solid, circular cross section, of any diameter, in any straight length, that have been forged, turned, cold-drawn, cold-rolled, machine straightened, or otherwise cold-finished, and into which threaded grooves have been applied. In addition, the steel threaded rod, bar, or studs subject to this order are non-headed and threaded along greater than 25 percent of their total length. A variety of finishes or coatings, such as plain oil finish as a temporary rust protectant, zinc coating (i.e., galvanized, whether by electroplating or hot-dipping), paint, and other similar finishes and coatings, may be applied to the merchandise.

Included in the scope of this order are steel threaded rod, bar, or studs, in which: (1) iron predominates, by weight, over each of the other contained elements; (2) the carbon content is 2 percent or less, by weight; and (3) none of the elements listed below exceeds the quantity, by weight, respectively indicated:

• 1.80 percent of manganese, or

• 1.50 percent of silicon, or

• 1.00 percent of copper, or

• 0.50 percent of aluminum, or

• 1.25 percent of chromium, or

• 0.30 percent of cobalt, or

• 0.40 percent of lead, or

• 1.25 percent of nickel, or

• 0.30 percent of tungsten, or

• 0.012 percent of boron, or

• 0.10 percent of molybdenum, or

• 0.10 percent of niobium, or

• 0.41 percent of titanium, or

• 0.15 percent of vanadium, or

• 0.15 percent of zirconium.

Steel threaded rod is currently classifiable under subheading 7318.15.5050, 7318.15.5090, and 7318.15.2095 of the United States Harmonized Tariff Schedule (“HTSUS”). Although the HTSUS subheading is provided for convenience and customs purposes, the written description of the merchandise is dispositive.

Excluded from the scope of the order are: (a) threaded rod, bar, or studs which are threaded only on one or both ends and the threading covers 25 percent or less of the total length; and (b) threaded rod, bar, or studs made to American Society for Testing and Materials (“ASTM”) A193 Grade B7, ASTM A193 Grade B7M, ASTM A193 Grade B16, or ASTM A320 Grade L7.

Scope-HTSUS Modification

On April 1, 2009, U.S. Customs and Border Protection (“CBP”) requested that the Department add HTSUS category 7318.15.2095 as an HTSUS category under which steel threaded rod may be classifiable. Therefore, the Department has modified the scope to reflect the new HTSUS category.¹

¹ See April 3, 2009, Memorandum to the File, From Toni Dach, International Trade Analyst, Regarding: Certain Steel Threaded Rod from the People's Republic of China: CBP Request to Include Additional HTSUS.

Antidumping Duty Order

On April 6, 2009, in accordance with section 735(d) of the Act, the ITC notified the Department of its final determination, pursuant to section 735(b)(1)(A)(i) of the Act, that an industry in the United States is materially injured by reason of less-than-fair-value imports of subject merchandise from the PRC. Therefore, in accordance with section 736(a)(1) of the Act, the Department will direct U.S. Customs and Border Protection (“CBP”) to assess, upon further instruction by the Department, antidumping duties equal to the amount by which the normal value of the merchandise exceeds the export price (or constructed export price) of the merchandise for all relevant entries of STR from the PRC. These antidumping duties will be assessed on all unliquidated entries of STR from the PRC entered, or withdrawn from the warehouse, for consumption on or after October 8, 2008, the date on which the Department published its preliminary determination. See Certain Steel Threaded Rod from the People's Republic of China: Preliminary Determination of Sales at Less Than Fair Value, 73 FR 58931 (October 8, 2008).

Section 733(d) of the Act states that instructions issued pursuant to an affirmative preliminary determination may not remain in effect for more than four months except where exporters representing a significant proportion of exports of the subject merchandise request the Department to extend that four-month period to no more than six months. At the request of exporters that account for a significant proportion of STR exports, we extended the four-month period to no more than six months. See Certain Steel Threaded Rod from the People's Republic of China: Amended Preliminary Determination of Sales at Less Than Fair Value and Postponement of Final Determination, 73 FR 63693 (October 27, 2008). In this investigation, the six-month period beginning on the date of the publication of the preliminary determination ended on April 8, 2009. Furthermore, section 737 of the Act states that definitive duties are to begin on the date of publication of the ITC's final injury determination. Therefore, in accordance with section 733(d) of the Act and our practice, we will instruct CBP to terminate the suspension of liquidation and to liquidate, without regard to antidumping duties, unliquidated entries of STR from the PRC entered, or withdrawn from warehouse, for consumption on or after April 8, 2009, and before the date of publication of the ITC's final injury determination in the Federal Register. Suspension of liquidation will resume on or after the date of publication of the ITC's final injury determination in the Federal Register.

Effective on the date of publication of the ITC's final affirmative injury determination in the Federal Register, CBP, pursuant to section 735(c)(3) of the Act, will require, at the same time as importers would normally deposit estimated duties on this merchandise, a cash deposit equal to the estimated weighted-average antidumping duty margins as listed below. The “PRC-wide” rate applies to all exporters of subject merchandise not specifically listed. The weighted-average dumping margins are as follows:

Certain Steel Threaded Rod from the PRC
Exporter | Producer | Weighted-Average Margin
RMB Fasteners Ltd., and IFI & Morgan Ltd. (“RMB/IFI Group”) | Jiaxing Brother Fastener Co., Ltd. (aka Jiaxing Brother Standard Parts Co., Ltd.) | 55.16%%
Ningbo Yinzhou Foreign Trade Co. Ltd. | Zhejiang Guorui Industry Co., Ltd.; or Ningbo Daxie Chuofeng Industrial Development Co. Ltd. | 206.00%%
Shanghai Recky International Trading Co., Ltd. | Shanghai Xiangrong International Trading Co., Ltd.; Shanghai Xianglong International Trading Co., Ltd.; Pighu City Zhapu Screw Cap Factory; or Jiaxing Xinyue Standard Part Co., Ltd. | 55.16%%
Suntec Industries Co., Ltd. | Jiaxing Xinyue Standard Part Co., Ltd.; or Haiyan County No. 1 Fasteners Factory | 55.16%%
Hangzhou Grand Imp. & Exp. Co., Ltd. | Zhapu Creative Standard Parts Material Co., Ltd. | 55.16%%
Shanghai Prime Machinery Co. Ltd. | Haiyan Yida Fasteners Co., Ltd.; or Jiaxing Xinyue Standard Part Co., Ltd. | 55.16%%
Jiaxing Xinyue Standard Part Co., Ltd. | Jiaxing Xinyue Standard Part Co., Ltd. | 55.16%%
Certified Products International Inc. | Jiashan Zhongsheng Metal Products Co., Ltd.; or Jiaxing Xinyue Standard Part Co., Ltd. | 55.16%%
Zhejiang New Oriental Fastener Co., Ltd. | Zhejiang New Oriental Fastener Co., Ltd. | 55.16%%
Jiashan Zhongsheng Metal Products Co., Ltd. | Jiashan Zhongsheng Metal Products Co., Ltd. | 55.16%%
Haiyan Dayu Fasteners Co., Ltd. | Haiyan Dayu Fasteners Co., Ltd. | 55.16%%
PRC-wide Entity |  | 206.00%%

This notice constitutes the antidumping duty order with respect to STR from the PRC pursuant to section 736(a) of the Act. Interested parties may contact the Department's Central Records Unit, Room 1117 of the main Commerce building, for copies of an updated list of antidumping duty orders currently in effect.

This order is published in accordance with section 736(a) of the Act and 19 CFR 351.211.

Dated: April 8, 2009.
Ronald K. Lorentzen,
Acting Assistant Secretary for Import Administration.

[FR Doc. E9-8630 Filed 4-10-09; 4:15 pm]

BILLING CODE 3510-DS-S